DEPARTMENT OF TRANSPORTATION

National Highway Traffic Safety Administration

Reports, Forms and Recordkeeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on November 13, 2008, Vol. 73, No.220, Pages 67248-67249.

DATES: Comments must be submitted on or before March 6, 2009.

FOR FURTHER INFORMATION CONTACT: Ann Burton at the National Highway Traffic Safety Administration, Office of Regional Operations and Program Delivery (NTI-200), 202-366-2685, 1200 New Jersey Avenue, SE., W46-492, Washington, DC 20590.

SUPPLEMENTARY INFORMATION:

National Highway Traffic Safety Administration

Title: 23 CFR, Part 1313, Alcohol Impaired Driving Countermeasures—Section 410.

OMB Number: 2127-0501.

Type of Request: Extension to a previously approved collection of information.

Abstract: An impaired driving incentive grant is available to States that have an alcohol fatality rate of 0.5 or less per 100 million vehicle miles traveled as determined by using the most recent Fatality Analysis Reporting System (FARS) data or that are one of the ten States that have the highest alcohol related fatality rates as determined by using the most recent FARS data. States designated as a high fatality rate State must submit a comprehensive plan for conducting high visibility enforcement and a report on the previous years activities.

States may also qualify through meeting specified program criteria. To demonstrate compliance using program criteria a State must submit an application that shows how they met three of eight criteria in FY2006, four of eight criteria in FY2007 and five of eight criteria in FY2008 and FY2009.

Affected Public: The 50 States, the District of Columbia, Puerto Rico.

Estimated Total Annual Burden: 1350.

ADDRESSES: Send comments, within 30 days, to the Office of Information and Regulatory Affairs, Office of Management and Budget, 725-17th Street, NW., Washington, DC 20503, Attention NHTSA Desk Officer.

Comments are invited on: Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology.

A Comment to OMB is most effective if OMB receives it within 30 days of publication.

Marlene Markison,
Associate Administrator, Regional Operations and Program Delivery.

[FR Doc. E9-2279 Filed 2-3-09; 8:45 am]

BILLING CODE 4910-59-P